SURFACE TRANSPORTATION BOARD

[Docket No. FD 36001]

BNSF Railway Company—Trackage Rights Exemption—State of Washington, Department of Transportation

The State of Washington, Department of Transportation (WDOT), pursuant to a trackage rights agreement being negotiated between WDOT and BNSF Railway Company (BNSF),¹ has agreed to grant BNSF restricted local trackage rights over approximately 5.3 miles of rail line between milepost 1.0 at Cheney, Wa., and milepost 6.30 near Four Lakes, Wa. (the Line). The trackage rights are intended to permit BNSF to move unit trains of 75 to 120 cars of grain or grain products or empty cars originating or terminating at the Highline Grain facility at milepost 6.30, and to perform overhead movements over the Line.

¹ WDOT and BNSF state that a copy of the agreement will be filed with the Board within 10 days of the agreement's execution. Also, WDOT states that Eastern Washington Gateway Railroad Company, which leases the Line for which BNSF seeks restricted local trackage rights, will be a party to the trackage rights agreement.

The transaction may be consummated on or after April 10, 2016, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by April 1, 2016 (at least 7 days before the exemption becomes effective).

An original and 10 copies of all pleadings, referring to Docket No. FD 36001, must be filed with the Surface Transportation Board, 395 E Street SW., Washington, DC 20423-0001. In addition, a copy of each pleading must be served on Karl Morell, Karl Morell & Associates, 655 15th Street NW., Suite 225, Washington, DC 20005.

Board decisions and notices are available on our Web site at WWW.STB.DOT.GOV.

Decided: March 21, 2016.
By the Board, Joseph H. Dettmar, Acting Director, Office of Proceedings.
Kenyatta Clay,
Clearance Clerk.

[FR Doc. 2016-06783 Filed 3-24-16; 8:45 am]

BILLING CODE 4915-01-P